INTERNATIONAL TRADE COMMISSION

[Investigation No. 731-TA-663 (Review)]

Paper Clips From China

Determination

On the basis of the record ¹ developed in the subject five-year review, the United States International Trade Commission determines, pursuant to section 751(c) of the Tariff Act of 1930 (19 U.S.C. 1675(c)), that revocation of the antidumping duty order on paper clips from China would be likely to lead to continuation or recurrence of material injury to an industry in the United States within a reasonably foreseeable time.

¹ The record is defined in sec. 207.2(f) of the Commission's Rules of Practice and Procedure (19 CFR § 207.2(f)).

Background

The Commission instituted this review on December 1, 1999 (64 FR 67320, December 1, 1999) and determined on March 3, 2000 that it would conduct an expedited review (65 FR 15010, March 20, 2000). The Commission transmitted its determination in this review to the Secretary of Commerce on July 28, 2000. The views of the Commission are contained in USITC Publication 3330 (July 2000), entitled Paper Clips From China: Investigation No. 731-TA-663 (Review).

Issued: July 28, 2000.
By order of the Commission.
Donna R. Koehnke,
Secretary.

[FR Doc. 00-19569 Filed 8-1-00; 8:45 am]

BILLING CODE 7020-02-P